DEPARTMENT OF COMMERCE

National Oceanic and Atmospheric Administration

RIN 0648-XD135

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will hold meetings of the Shrimp and Ad Hoc Artificial Substrate Advisory Panels.

DATES: The meeting will be held from 8:30 a.m. on Wednesday, March 5 until 4:30 p.m. on Thursday, March 6, 2014.

ADDRESSES: The meetings will be held at the Hilton St. Petersburg Bayfront Hotel, 333—1st Street, St. Petersburg, FL 33701; telephone: (727) 894-5000.

Council address: Gulf of Mexico Fishery Management Council, 2203 North Lois Avenue, Suite 1100, Tampa, FL, 33607.

FOR FURTHER INFORMATION CONTACT: Dr. John Froeschke, Fishery Biologist and Statistician or Dr. Morgan Kilgour, Fishery Biologist, Gulf of Mexico Fishery Management Council; telephone: (813) 348-1630; fax: (813) 348-1711; emails: john.froeschke@ gulfcouncil.org or morgan.kilgour@gulfcouncil.org.

SUPPLEMENTARY INFORMATION: The items of discussion in the individual meeting agendas are as follows:

Shrimp Advisory Panel, Wednesday, March 5, 2014, 8:30 a.m. until 4:30 p.m.

1. Adoption of agenda

2. Approval of minutes from May 23, 2013 meeting

3. Plan of work

4. Review of new stock assessments for brown, white, and pink shrimp

5. Biological review of the Texas closure

6. Review draft options for shrimp Amendment 15 status determination criteria for penaeid shrimp and adjustments to the shrimp FMP framework procedure

7. Discussion of ACL adjustment and accountability measures for royal red shrimp

8. Kemp's Ridley stock assessment with discussion

9. Update on the status of the new shrimp ELB monitoring program

10. Other Business

Joint Shrimp and Ad Hoc Artificial Substrate Advisory Panels, Thursday, March 6, 2014, 8:30 a.m. until 4:30 p.m.

1. Consideration of new chair election for Ad Hoc Artificial Substrate AP

2. Adoption of agenda

3. Approval of minutes from February 28, 2013 Ad Hoc Artificial Substrate AP Meeting

4. Plan of work: Council charge- discussion of issues, impacts, and concerns associated with artificial reef siting criteria

a. Shrimp effort

b. Artificial reefs sites (past and present)

c. Bottom type

d. Depth

e. Other criteria

5. Rigs to reefs

6. Habitat limitations of age 2 red snapper and their association with petroleum platforms

7. Other Business

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 12, 2014.
William D. Chappell,
Acting Deputy Director, Office of Sustainable Fisheries, National Marine Fisheries Service.

[FR Doc. 2014-03443 Filed 2-14-14; 8:45 am]

BILLING CODE 3510-22-P